Title 3—

The President

Memorandum of January 29, 2016

Delegation of Certain Authority and Assignment of Certain Functions Under Section 103(a)(1)(A) and Section 103(b)(1) of the Bipartisan Congressional Trade Priorities and Accountability Act of 2015

Memorandum for the United States Trade Representative

In addition to the authorities and functions delegated and assigned to you by Executive Order 13701 of July 17, 2015, by the authority vested in me as President by the Constitution and the laws of the United States of America, including section 301 of title 3, United States Code, I hereby delegate to you the authority to enter into trade agreements, reserved to the President in Executive Order 13701, under section 103(a)(1)(A) and section 103(b)(1) of the Bipartisan Congressional Trade Priorities and Accountability Act of 2015 (Public Law 114-26, title I), and assign to you that function.

You are authorized and directed to publish this memorandum in the Federal Register.

THE WHITE HOUSE,

Washington, January 29, 2016

[FR Doc. 2016-02084

Filed 2-1-16; 11:15 am]

Billing code 3190-W1-P